DEPARTMENT OF HOMELAND SECURITY

Federal Emergency Management Agency

44 CFR Part 67

[Docket No. FEMA-B-1016]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before February 3, 2009.

ADDRESSES: The corresponding preliminary Flood Insurance Rate Map (FIRM) for the proposed BFEs for each community are available for inspection at the community's map repository. The respective addresses are listed in the table below.

You may submit comments, identified by Docket No. FEMA-B-1016, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Archuleta County, CO, Colorado, and Incorporated Areas
Stollsteimer Creek | 150 feet east of CR 700 Extension | None | +6783 | Unincorporated Areas of Archuleta County.
| South of Hawthorne Drive and Highway 160 | None | +7023
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Archuleta County
Maps are available for inspection at 449 San Juan Street, Pagosa Springs, CO 81147.
Berrien County, Georgia, and Incorporated Areas
Cat Creek/Tributary 2 | Approximately 320 feet downstream of State Highway 37 | None | +175 | Unincorporated Areas of Berrien County.
| Approximately 1,270 feet upstream of North Street | None | +183
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Berrien County
Maps are available for inspection at County Courthouse, Town Square, Nashville, GA 31639.
Colquitt County, Georgia, and Incorporated Areas
Ochlockonee River | Approximately 3,380 feet downstream of Camilla Highway | None | +256 | Township of Riverside.
| Approximately 238 feet upstream of Camilla Highway | None | +258
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Township of Riverside
Maps are available for inspection at City Hall, 301 Riverside Drive, Moultrie, GA 31768.
Kankakee County, Illinois, and Incorporated Areas
South Branch Rock Creek | Approximately 2,400 feet downstream of Sycamore Street (County Road 3000 East) | None | *665 | Unincorporated Areas of Kankakee County, Village of Manteno.
| Upstream side of South Locust Street | None | *665
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Village of Manteno
Maps are available for inspection at Manteno Village Hall, 269 North Main Street, Manteno, IL 60950.
Unincorporated Areas of Kankakee County
Maps are available for inspection at Kankakee County Administration Building, 189 East Court Street, Kankakee, IL 60901.
Marshall County, Illinois, and Incorporated Areas
Sandy Creek | From County Highway 14 | None | +673 | Unincorporated Areas of Marshall County, City of Wenona.
| To approximately 140 feet northwest of the intersection of Hickory Street and South 5th Street in the City of Wenona | None | +686
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Wenona
Maps are available for inspection at 226 South Chestnut Street, P.O. Box 601, Wenona, IL 61377.
Unincorporated Areas of Marshall County
Maps are available for inspection at 122 North Prairie Street, P.O. Box 328, Lacon, IL 61540.
Elkhart County, Indiana, and Incorporated Areas
Cobus Creek | At County Road 6 | None | +765 | Unincorporated Areas of Elkhart County.
| Approximately 3,370 feet upstream of County Road 2 | None | +789
Haverstick Ditch/Darkwood Ditch | Just upstream of confluence with Berlin Court Ditch | None | +835 | Unincorporated Areas of Elkhart County.
| Approximately 3,550 feet upstream of County Road 7 | None | +862
Hoke Ditch | At confluence with Yellow Creek | None | +782 | Unincorporated Areas of Elkhart County.
| At State Road 19 | None | +797
Horn Ditch | At confluence with Rock Run Creek | None | +799 | Unincorporated Areas of Elkhart County, City of Goshen.
| At County Road 33 | None | +825
Little Elkhart River | Approximately 1,500 feet downstream of County Road 131 | +773 | +774 | Unincorporated Areas of Elkhart County.
| At the LaGrange County Boundary | None | +842
Mather Ditch | Approximately 900 feet upstream of confluence with Little Elkhart River | +815 | +816 | Unincorporated Areas of Elkhart County, Town of Middlebury.
| Approximately 350 feet upstream of County Road 43 | None | +844
Pine Creek | Approximately 120 feet downstream of State Road 15 | +806 | +807 | Unincorporated Areas of Elkhart County.
| At County Road 35 | None | +886
Rock Run Creek | Approximately 200 feet upstream of confluence with Elkhart River | +780 | +779 | Unincorporated Areas of Elkhart County, City of Goshen.
| At County Road 35 | None | +846
Werntz Ditch | At confluence with Baugo Creek | None | +810 | Unincorporated Areas of Elkhart County, Town of Wakarusa.
| Approximately 900 feet upstream of Industrial Parkway | None | +853
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Goshen
Maps are available for inspection at Deparment of Planning and Zoning, 204 East Jefferson Street, Suite 4, Goshen, IN 46528.
Town of Middlebury
Maps are available for inspection at Town Hall, 418 North Main Street, Middlebury, IN 46540.
Town of Wakarusa
Maps are available for inspection at Town Hall, 100 West Waterford Street, Wakarusa, IN 46573.
Unincorporated Areas of Elkhart County
Maps are available for inspection at Elkhart County Public Services Building, 4230 Elkhart Road, Goshen, IN 46526.
Cowley County, Kansas, and Incorporated Areas
Black Crook Creek | Approximately 0.38 mile upstream of Simpson Avenue | None | +1154 | City of Winfield, Unincorporated Areas of Cowley County.
| Approximately 0.16 mile upstream of 152nd Street | None | +1244
Black Crook Creek Tributary 1 | Approximately 0.36 mile downstream of 101st Road | None | +1120 | Unincorporated Areas of Cowley County.
| Approximately 0.91 mile upstream of 103rd Road | None | +1188
Black Crook Creek Tributary 2 | Confluence with Black Crook Creek | None | +1132 | City of Winfield, Unincorporated Areas of Cowley County.
| Approximately 350 feet upstream of State Route K360 | None | +1183
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Winfield
Maps are available for inspection at City Office, 200 East Ninth Avenue, Winfield, KS 67156.
Unincorporated Areas of Cowley County
Maps are available for inspection at County Office, 311 East Ninth Avenue, Winfield, KS 67156.
Neosho County, Kansas, and Incorporated Areas
Little Turkey Creek | Approximately 127 feet downstream of Katy Road | None | +925 | Unincorporated Areas of Neosho County.
| Approximately 675 feet downstream of U.S. Highway 169 | None | +932
Neosho River | Approximately 1.2 miles downstream of State Highway 39 | None | +917 | Unincorporated Areas of Neosho County.
| Approximately 1.13 miles upstream of State Highway 39 | None | +920
Puckets Run Creek | Approximately 120 feet upstream of East State Street | None | +896 | Unincorporated Areas of Neosho County.
| At East Railroad Street | None | +897
| Approximately 75 feet downstream of Atchison, Topeka and Santa Fe Railroad | None | +898
| Approximately 350 feet downstream of Queen Road | None | +902
Santa Fe Lake | Approximately 115 feet downstream of West 35 Street | None | +944 | Unincorporated Areas of Neosho County.
| At Atchison, Topeka and Santa Fe Railroad | None | +945
Tolen Creek | Approximately 0.32 mile upstream of Pratt Road | None | +896 | Unincorporated Areas of Neosho County.
| Approximately 1.95 miles upstream of Pratt Road | None | +910
Tributary to Puckets Run Creek | Intersection of Trib Street and Missouri-Kansas-Texas Railroad | None | +895 | Unincorporated Areas of Neosho County.
| Intersection of Trib Street and East Street | None | +899
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Neosho County
Maps are available for inspection at 100 South Main, Erie, KS 66733.
St. Clair County, Michigan, and Incorporated Areas
Beaubien Creek | At confluence with Lake St. Clair | +578 | +579 | Township of Clay, Township of Cottrellville, Township of Ira.
| Upstream side of Mayer Road | +578 | +579
Belle River | At confluence with St. Clair River | +580 | +581 | City of Marysville.
| Approximately 475 feet upstream of Broadway Street | +580 | +581
Belle River | Upstream side of Bordman Road | None | +699 | Township of Riley.
| Approximately 550 feet upstream of Bordman Road | None | +701
Black River | At confluence with St. Clair River | +582 | +583 | City of Port Huron.
| Upstream side of 7th Street | +582 | +583
Lake Huron | Entire shoreline of Lake Huron | None | +584 | Township of Burtchville.
Lake St. Clair | Entire shoreline of Lake St. Clair | +578 | +579 | Township of Clay, Township of Ira.
Lester Bammel Drain | At confluence with St. Clair River | +579 | +581 | Township of Cottrellville.
| Approximately 175 feet downstream of Paradise Boulevard | +580 | +581
Marine City Drain | At confluence with St. Clair River | +579 | +580 | Township of Clay, City of Algonac.
| At Algonac State Park | +579 | +580
Meldrum Creek | At confluence with Swan Creek | +578 | +579 | Township of Ira.
| Approximately 1,500 feet upstream of the confluence with Swan Creek | +578 | +579
Middle Channel St. Clair River | At confluence with Lake St. Clair | +578 | +579 | Township of Clay.
| At diversion with North Channel St. Clair River | +578 | +579
North Channel St. Clair River | At confluence with Lake St. Clair | +578 | +579 | Township of Clay, City of Algonac.
| At diversion with South Channel St. Clair River | +579 | +580
Pine River | At confluence with St. Clair River | +581 | +582 | City of St. Clair.
| Approximately 0.3 mile upstream of S Riverside Avenue | +581 | +582
Robbins Drain | At confluence with St. Clair River | +579 | +580 | Township of Cottrellville.
| Approximately 500 feet downstream of Nautical Lane | +579 | +580
Robbins Drain Outlet | At confluence with St. Clair River | +579 | +581 | Township of Cottrellville.
| At confluence with Robbins Drain | +580 | +581
South Channel/St. Clair River | At confluence with Lake St. Clair | +578 | +579 | City of Algonac, City of Marine City, City of Marysville, City of Port Huron, City of St. Clair, Township of Clay, Township of Cottrellville, Township of East China, Township of St. Clair.
| At Dunn Paper Gage | +582 | +584
Swan Creek | At confluence with Lake St. Clair | +578 | +579 | Township of Ira.
| Downstream side of Arnold Road | +589 | +590
Swan Creek | Downstream side of Marine City Highway | None | +603 | Township of Casco.
| Upstream side of Marine City Highway | None | +603
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Algonac
Maps are available for inspection at 805 St. Clair Drive, Algonac, MI 48001.
City of Marine City
Maps are available for inspection at 303 South Water Street, Marine City, MI 48039.
City of Marysville
Maps are available for inspection at 1111 Delaware Avenue, Marysville, MI 48040.
City of Port Huron
Maps are available for inspection at 100 McMorran Boulevard, Port Huron, MI 48060.
City of St. Clair
Maps are available for inspection at 547 North Carney Drive, St. Clair, MI 48079.
Township of Burtchville
Maps are available for inspection at 4000 Burtch Road, Lakeport, MI 48059.
Township of Casco
Maps are available for inspection at 4512 Meldrum Road, Casco, MI 48064.
Township of Clay
Maps are available for inspection at 4710 Pte. Tremble Road, Algonac, MI 48001.
Township of Cottrellville
Maps are available for inspection at 7008 Marsh Road, Cottrellville, MI 48039.
Township of East China
Maps are available for inspection at 5111 River Road, East China, MI 48054.
Township of Ira
Maps are available for inspection at 7085 Meldrum Road, Fair Haven, MI 48023.
Township of Riley
Maps are available for inspection at 13042 Belle River Road, Riley, MI 48041.
Township of St. Clair
Maps are available for inspection at 1539 South Bartlett Road, St. Clair, MI 48079.
St. Joseph County, Michigan, and Incorporated Areas
Adams Lake | Entire shoreline of Adams Lake | None | +843 | Township of Leonidas.
Clear Lake | Entire shoreline of Clear Lake | None | +876 | Township of Fabius.
Corey Lake | Entire shoreline of Corey Lake | None | +877 | Township of Fabius.
Flowerfield Creek | Approximately 0.8 mile downstream of M 216 (Marcellus Road) | None | +817 | Township of Flowerfield.
| Approximately 0.3 mile upstream of Main Street on the St. Joseph County/Kalamazoo County border | None | +842
Kaiser Lake | Entire shoreline of Kaiser Lake | None | +877 | Township of Fabius.
Long Lake | Entire shoreline of Long Lake | None | +892 | Township of Fabius.
Mud Lake | Entire shoreline of Mud Lake | None | +877 | Township of Fabius.
Pleasant Lake | Entire shoreline of Pleasant Lake | None | +853 | Township of Fabius.
Spring Creek | At confluence with Flowerfield Creek | None | +821 | Township of Flowerfield, Township of Park.
| Approximately 0.6 mile upstream of Quake Road on the St. Joseph County/Kalamazoo County border | None | +844
St. Joseph River | Approximately 0.7 mile downstream of Wakeman Road | None | +829 | Township of Mendon.
| Approximately 350 feet downstream of Wakeman Road | None | +829
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Township of Fabius
Maps are available for inspection at 13108 Broadway, Three Rivers, MI 49093.
Township of Flowerfield
Maps are available for inspection at 12020 M-216, Marcellus, MI 49067.
Township of Leonidas
Maps are available for inspection at 53312 Fulton Road, Leonidas, MI 49066.
Township of Mendon
Maps are available for inspection at 136 West Main Street, Mendon, MI 49072.
Forrest County, Mississippi, and Incorporated Areas
Black Creek | At Forrest/Perry county boundary | None | +140 | Unincorporated Areas of Forrest County.
| At Lamar/Forrest county boundary | None | +205
Boggy Branch | At the confluence of Greens Creek | None | +172 | Unincorporated Areas of Forrest County, City of Petal.
| Approximately 2,870 feet upstream of Otis Lee Road | None | +233
Gordons Creek | Just upstream of West Street | +160 | +159 | City of Hattiesburg.
| Approximately 2,260 feet upstream of Interstate 59 | None | +252
Greens Creek | At Chappell Hill Road | None | +171 | Unincorporated Areas of Forrest County, City of Petal.
| Approximately 4,220 feet upstream of Robertson Road | None | +242
Little Beaver Creek | Approximately 2,820 feet downstream of Churchwell Road | None | +187 | Unincorporated Areas of Forrest County.
| At Lamar/Forrest county boundary | None | +237
Mixons Creek | At Highway 49 | None | +163 | City of Hattiesburg.
| At Interstate 59 | None | +176
| Approximately 120 feet upstream of Interstate 59 | None | +176
| Approximately 380 feet upstream of Interstate 59 | None | +176
| Approximately 2,080 feet downstream of West 4th Street | None | +193
Mixons Creek Tributary 1 | Approximately 2,900 feet upstream of Dogwood Cove | None | +197 | City of Hattiesburg.
| Approximately 3,800 feet upstream of Dogwood Cove | None | +204
Mixons Creek Tributary 2 | Approximately 118 feet downstream of Spring Hill Drive | None | +190 | City of Hattiesburg.
| Approximately 1,460 feet upstream of Bridges Circle | None | +208
Mixons Creek Tributary 4 | Just upstream of Joy Drive | None | +196 | City of Hattiesburg.
| Approximately 1.8 miles upstream of Joy Drive | None | +283
Unnamed Tributary 2 | Approximately 111 feet downstream of Hillcrest Loop | None | +149 | City of Petal.
| Approximately 335 feet upstream of Chandler Lane | None | +188
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Hattiesburg
Maps are available for inspection at Building of Inspection Department, 200 Forrest Street, Hattiesburg, MS 39401.
City of Petal
Maps are available for inspection at City Hall, 107 West Eighth Avenue, Petal, MS 39401.
Unincorporated Areas of Forrest County
Maps are available for inspection at Forrest County Board of Supervisor's Office, 629 Main Street, Hattiesburg, MS 39401.
Richland County, North Dakota, and Incorporated Areas
Sheyenne River | 50 feet upstream of Gol Bridge | None | +956 | Richland County, Township of Barrie.
| 1,696 feet downstream of 151st Ave SE | None | +986
Upstream Wahpeton Breakout, Breakout Reach | 100 feet upstream of 182nd Ave SE | None | +964 | Township of Center, City of Wahpeton, Township of Summit.
| 64 feet downstream of 182nd Ave SE | None | +966
Upstream Wahpeton Breakout, Drain 55 | 49 feet upstream of State Highway 127 | None | +965 | Township of Summit, Township of Center.
Upstream Wahpeton Breakout, West Breakout Reach | 220 feet upstream of 78th Street SE | None | +955 | Township of Center, City of Wahpeton.
| 36 feet upstream of 83rd Street SE | None | +963
Wild Rice River | 1,118 feet upstream of ND Highway 46 | None | +923 | Township of Walcott.
| 2,466 feet downstream of 60th Street SE | None | +930
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Wahpeton
Maps are available for inspection at 1900 N 4th Street, Wahpeton, ND 58074.
Richland County
Maps are available for inspection at 418 2nd Ave North, Wahpeton, ND 58075-4400.
Township of Barrie
Maps are available for inspection at 5515 160th Ave SE, Kindred, ND 58051.
Township of Center
Maps are available for inspection at 17915 84th Street SE, Wahpeton, ND 58075.
Township of Summit
Maps are available for inspection at 8945 179th Ave SE, Fairmount, ND 58030.
Township of Walcott
Maps are available for inspection at 5470 County Road #1, Kindred, ND 58051.
Lake County, South Dakota, and Incorporated Areas
Park Creek | 1,720 feet downstream of 4th Street S | +1656 | +1657 | City of Madison.
| 75 feet upstream from Washington Ave N | +1674 | +1671
| 50 feet upstream of 9th Street NE | +1685 | +1684
Park Creek Tributary | 150 feet downstream from Union Ave | +1682 | +1681 | City of Madison.
| 150 feet upstream from Chicago Ave | +1685 | +1684
| 50 feet upstream of U.S. Highway 81 | +1691 | +1695
Silver Creek | At confluence with Park Creek | +1658 | +1659 | City of Madison.
| 100 feet downstream from Egan Ave | +1663 | +1665
| 50 feet upstream of Highland Avenue | +1669 | +1671
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Madison
Maps are available for inspection at 116 W Center, Madison, SD 57042.

(Catalog of Federal Domestic Assistance No. 97.022, “Flood Insurance.”)

Dated: October 27, 2008.
Michael K. Buckley,
Acting Assistant Administrator, Mitigation Directorate, Department of Homeland Security, Federal Emergency Management Agency.

[FR Doc. E8-26306 Filed 11-4-08; 8:45 am]

BILLING CODE 9110-12-P